DEPARTMENT OF ENERGY

Federal Energy Regulatory Commission

[Project No. 15289-000]

Peak Hour Power, LLC; Notice of Preliminary Permit Application Accepted for Filing and Soliciting Comments, Motions To Intervene, and Competing Applications

On October 25, 2022, Peak Hour Power, LLC, filed an application for a preliminary permit, pursuant to section 4(f) of the Federal Power Act (FPA), proposing to study the feasibility of the Silver Creek Pumped Storage Project to be located at Blythe Township in Schuylkill County, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) a new upper reservoir with a surface area of 150 acres and a storage capacity of 8,000 to 10,000 acre-feet at a pool elevation between 1,650 to 1,700 feet above sea level (asl) and 1,750 to 1,800 feet asl created through construction of a roller-compacted concrete or rock-fill semi-circular dam and/or dike; (2) a new lower reservoir with a surface area of 100 acres and a storage capacity of 10,000 acre-feet at a pool elevation between 1,200 to 1,300 feet asl at the site of the existing Silver Creek reservoir and neighboring abandoned mine land; (3) a new 3,000-foot-long, 25-foot-diameter penstock connecting the upper reservoir and the underground powerhouse; (4) a new 250-foot-long, 70-foot-wide, 120-foot-high underground powerhouse containing two 125-megawatt (MW) pumping-generating units with a total installed capacity of 250 MW; (5) a new 2-mile-long, 230-kilovolt transmission line; and (6) appurtenant facilities. The proposed project would have an annual generation of 784,750 megawatt-hours.

Applicant Contact: Paul A. DiRenzo, Jr., Peak Hour Power, LLC, 214 Norwegian Woods Drive, Pottsville, PA 17901; email: peakhourpower@comcast.net; phone: (570) 617-7810.

FERC Contact: Woohee Choi; email: woohee.choi@ferc.gov; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15289-000.

More information about this project, including a copy of the application, can be viewed or printed on the “eLibrary” link of the Commission's website at http://www.ferc.gov/docs-filing/elibrary.asp. Enter the docket number (P-15289) in the docket number field to access the document. For assistance, contact FERC Online Support.

Dated: December 29, 2022.
Debbie-Anne A. Reese,
Deputy Secretary.

[FR Doc. 2023-00098 Filed 1-6-23; 8:45 am]

BILLING CODE 6717-01-P